DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

Comments are invited on: (a) The proposed collection of information for the proper performance of the functions of the Agency; (b) the accuracy of the Agency's estimate of the burden of the proposed collection of information; (c) ways to enhance the quality, utility, and clarity of the information to be collected; and (d) ways to minimize the burden of the collection of information on respondents, including through the use of automated collection techniques or other forms of information technology.

Proposed Project: Maternal, Infant, and Early Childhood Home Visiting Program Information System (OMB No. 0915-xxxx)—[New]

On March 23, 2010, the President signed into law the Patient Protection and Affordable Care Act of 2010 (Pub. L. 111-148), historic and transformative legislation designed to make quality, affordable health care available to all Americans, reduce costs, improve health care quality, enhance disease prevention, and strengthen the health care workforce. Through a provision authorizing the creation of the Maternal, Infant, and Early Childhood Home Visiting (MIECHV) Program, the Act responds to the diverse needs of children and families in communities at risk and provides an unprecedented opportunity for collaboration and partnership at the Federal, State and community levels to improve health and development outcomes for at-risk children through evidence-based home visiting programs. The MIECHV Program is designed: (1) To strengthen and improve the programs and activities carried out under Title V; (2) to improve coordination of services for at-risk communities; and (3) to identify and provide comprehensive services to improve outcomes for families who reside in at-risk communities.

The Social Security Act, Title V, Section 511 (42 U.S.C. 711), as amended by the Patient Protection and Affordable Care Act of 2010, requires that MIECHV grantees collect data to measure improvements for eligible families in six specified areas (referred to as “benchmark areas”) that encompass the major goals for the program. The Supplemental Information Request for the Submission of the Updated State Plan for a State Home Visiting Program (SIR), published on February 8, 2011, further listed a variety of constructs under each benchmark area for which grantees were to select and submit relevant performance measures. Per Section 511(d)(1)(B)(i) of the legislation, no later than 30 days after the end of the third year of the program, grantees are required to demonstrate improvement in at least four of the six benchmark areas. The SIR and subsequent MIECHV guidance documents for both competitive and formula grants also require that grantees report annually on the constructs under each benchmark area, as well as on demographic, service utilization, budgetary and other administrative data related to program implementation.

The proposed data collection and reporting forms were developed by an internal MIECHV workgroup in consultation with Home Visiting Model Developers and selected grantees. The data collected from the proposed forms will be used to track the grantees' progress in demonstrating improvement under each benchmark area and to provide an overall picture of the population being served. The proposed data collection forms are as follows:

Form 1—Demographic and Service Utilization Data for Enrollees and Children: This form will request data to determine the unduplicated number of participants and of participant groups by primary insurance coverage. This form will also request data on the demographic characteristics of program participants. For example, data will be collected on the race/ethnicity of program participants and household demographics including income data.

Form 2—State Performance Measures Template: Grantees have already selected relevant performance measures for the legislatively identified benchmark areas. This form provides a template for grantees to report aggregate data on their State-selected performance measures.

While there will be variation in the data collection and reporting burden to the grantees based on the number of families served and state data system capacity, the estimated average annual burden is as follows:

Reporting document | Number of respondents | Responses per respondent | Total responses | Burden hours per response | Total burden hours
Form 1: Demographic and Service Utilization Data for Enrollees and Children | 56 | 1 | 56 | 731 | 40,936
Form 2: State Performance Measures Template | 56 | 1 | 56 | 313 | 17,528
Total | 56 |  | 56 |  | 58,464

Email comments to paperwork@hrsa.gov or by mail to the HRSA Reports Clearance Officer, Room 10-29, Parklawn Building, 5600 Fishers Lane, Rockville, MD 20857. Written comments should be received within 60 days of this notice.

Dated: February 10, 2012.
Reva Harris,
Acting Director, Division of Policy and Information Coordination.

[FR Doc. 2012-3710 Filed 2-15-12; 8:45 am]

BILLING CODE 4165-15-P